INTERNATIONAL TRADE COMMISSION

[Inv. No. 337-TA-444]

Certain Semiconductor Light Emitting Devices, Components Thereof, and Products Containing Same; Notice of a Commission Determination Not To Review an Initial Determination Terminating the Investigation Based on Withdrawal of the Complaint

AGENCY: International Trade Commission.

ACTION: Notice.

SUMMARY: Notice is hereby given that the U.S. International Trade Commission has determined not to review the presiding administrative law judge's (“ALJ's”) initial determination (“ID”) granting a motion to terminate the above-captioned investigation based on withdrawal of the complaint.

FOR FURTHER INFORMATION: Timothy P. Monaghan, Esq., Office of the General Counsel, U.S. International Trade Commission, telephone (202) 205-3152.

SUPPLEMENTARY INFORMATION: The Commission instituted this investigation on January 9, 2001, based on a complaint by Rohm Co. Ltd. (“Rohm”) alleging that respondents Nichia Corporation and Nichia American Corporation (“Nichia”) violated section 337 of the Tariff Act of 1930 by importing, selling for importation, or selling within the United States after importation certain semiconductor light emitting devices, components thereof, and products containing same that infringe certain claims of U.S. Letters Patent Nos. 6,084,899 and 6,115,399.

On April 27, 2001, complainant Rohm filed a motion pursuant to rule 210.21(a) to terminate the investigation on the basis of withdrawal of the complaint. On May 9, 2001, the Nichia respondents filed a response to Rohm's motion to terminate the investigation. Nichia did not oppose the motion to terminate, but requested that the ALJ terminate the investigation “with prejudice” in view of a Nichia's motion for sanctions against Rohm for abuse of Commission process. The Commission investigative attorney supported Rohm's motion to terminate the investigation.

On June 27, 2001, the presiding ALJ issued an ID granting Rohm's motion to terminate the investigation, but denying Nichia's request to terminate the investigation “with prejudice.”

None of the parties filed a petition to review the subject ID. The Commission subsequently determined not to review the subject ID.

This action is taken under the authority of section 337 of the Tariff Act of 1930, as amended, 19 U.S.C. 1337, and Commission rule 210.42, 19 CFR 210.42. Copies of the subject ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http:/www.usitc.gov). The public record for this investigation may be viewed on the Commission's electronic docket (EDIS-ON-LINE) at http://dockets.usitc.gov/eol/public.

Issued: July 16, 2001.
By order of the Commission.
Donna R. Koehnke,
Secretary.

[FR Doc. 01-18100 Filed 7-18-01; 8:45 am]

BILLING CODE 7020-02-P